DEPARTMENT OF STATE

[Public Notice: 7551]

Advisory Committee On International Postal and Delivery Services

AGENCY: Department of State.

ACTION: Notice; advisory committee meeting announcement.

SUMMARY: As required by the Federal Advisory Committee Act, Public Law 92-463, the Department of State gives notice of a meeting of the Advisory Committee on International Postal and Delivery Services. This Committee has been formed in fulfillment of the provisions of the 2006 Postal Accountability and Enhancement Act (Pub. L. 109-435) and in accordance with the Federal Advisory Committee Act.

DATES: September 29, 2011 from 10 a.m. to about 1 p.m. (open to the public).

Location: The American Institute of Architects (Boardroom), 1735 New York Ave., NW., Washington, DC 20006

Meeting agenda: The agenda of the meeting will include a review of the results of the April 2011 UPU Postal Operations Council, the major issues to arise at the October 2011 UPU Council of Administration, U.S. strategy for the UPU, developing U.S. proposals for the 2012 UPU Congress, and other subjects related to international postal and delivery services that are of interest to Advisory Committee members and the public.

Public input: Any member of the public interested in providing public input to the meeting should contact Mr. Mohammed Nauage, whose contact information is listed below. Each individual providing oral input is requested to limit his or her comments to five minutes. Requests to be added to the speaker list must be received in writing (letter, e-mail or fax) prior to the close of business on September 23, 2011; written comments from members of the public for distribution at this meeting must reach Mr. Nauage by letter, e-mail or fax by this same date. A member of the public requesting reasonable accommodation should make the request to Mr. Nauage by that same date.

For further information, please contact Mohammed Nauage, Office of Global Systems (IO/GS), Bureau of International Organization Affairs, U.S. Department of State, at (202) 647-1044, NauageM@state.govmailto:

Dated: August 23, 2011.
Dennis M. Delehanty,
Designated Federal Officer, Advisory Committee on International Postal and Delivery Services.
Dated: August 23, 2011.
Dennis M. Delehanty,
Foreign Affairs Officer, Department of State.

[FR Doc. 2011-22597 Filed 9-1-11; 8:45 am]

BILLING CODE 4710-19-P